FEDERAL ELECTION COMMISSION

Sunshine Act; Notice of Meeting

AGENCY: Federal Election Commission.

Date & Time: Thursday, May 25, 2006 at 10 a.m.

Place: 999 E Street, NW., Washington, DC (Ninth Floor).

Status: This meeting will be open to the public.

Items to be Discussed: Advisory Opinion 2006-19: Los Angeles County Democratic Party Central Committee.

Routine Administrative Matters.

FOR FURTHER INFORMATION CONTACT: Mr. Robert Biersack, Press Officer, Telephone: (202) 694-1220.

Mary W. Dove,
Secretary of the Commission.

[FR Doc. 06-4901 Filed 5-23-06; 3:18 pm]

BILLING CODE 6715-01-M